DEPARTMENT OF EDUCATION

Notice of Proposed Information Collection Requests

AGENCY: Department of Education.

ACTION: Correction notice/change of comment period.

SUMMARY: On February 12, 2003, the Department of Education published a 30-day notice in the February 12, 2003 Federal Register (Volume 68, Number 29, Page 7110) for the Small Business Innovation Research (SBIR) Program Grant Application. The notice referred to the Phase I grant application; however, this was incorrect. The 30-day notice relates to the Phase II grant application. The remaining information of that notice remains the same, including the public comment end date of March 14, 2003. The Leader, Regulatory Information Management Group, Office of the Chief Information Officer, hereby issues a correction notice as required by the Paperwork Reduction Act of 1995.

FOR FURTHER INFORMATION CONTACT: Kathy Axt at her e-mail address Kathy.Axt@ed.gov.

Dated: February 12, 2003.
John D. Tressler,
Leader, Regulatory Management Group, Office of the Chief Information Officer.

[FR Doc. 03-3917 Filed 2-18-03; 8:45 am]

BILLING CODE 4000-01-P